INTER-AMERICAN FOUNDATION

Sunshine Act Meetings

TIME AND DATE: May 26, 2021, 3:00 p.m.-4:00 p.m.

PLACE: Via tele-conference.

STATUS: Meeting of the Board of Directors, open to the public.

MATTERS TO BE CONSIDERED:

Call to order

Discussion on CRM system

Adjournment

CONTACT PERSON FOR MORE INFORMATION: Aswathi Zachariah, General Counsel, (202) 683-7118.

For Dial-in Information Contact: Karen Vargas, Board Liaison, (202) 524-8869.

Aswathi Zachariah,
General Counsel.

[FR Doc. 2021-10862 Filed 5-19-21; 11:15 am]

BILLING CODE 7025-01-P